DEPARTMENT OF LABOR

Employment and Training Administration

Workforce Investment Act: Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) (29 U.S.C. 2911(h)(4)), notice is hereby given of the next meeting of the Native American Employment and Training Council as constituted under WIA.

Time and Date: The meeting will begin at 9 a.m. e.d.t. (eastern daylight saving time) on Wednesday, October 13, 2004, and continue until 5 p.m. e.d.t. that day. The period from 3 p.m. to 5 p.m. e.d.t. will be reserved for participation and presentation by members of the public. The meeting will reconvene at 8:30 a.m. e.d.t. on Thursday, October 14, 2004, and continue until approximately 5 p.m. e.d.t. on that day.

Place: All sessions will be held in Embassy Suites, 1250 22nd Street, NW., Washington, DC 20037.

Status: The meeting will be open to the public. Persons who need special accommodations should contact Ms. Athena Brown on (202) 693-3737 by October 1, 2004.

Matters to be Considered: The formal agenda will include, but not be limited to, the following topics: (1) Election of Council Chairperson, Vice-Chairperson, and other officers; (2) comments from the Department on overall employment and training issues, including implementation of the OMB “Common Measures” for evaluating employment and training programs; (3) Council work group reports, including an update on the Unemployment Insurance Wage Record Study; (4) status of the Council report to the Department and Congress; (5) status of the Technical Assistance and Training Initiative; and (6) status of WIA reauthorization legislation.

FOR FURTHER INFORMATION CONTACT: Ms. Athena Brown, Chief, Division of Indian and Native American Programs, Office of National Programs, Employment and Training Administration, U.S. Department of Labor, Room S-4203, 200 Constitution Avenue, NW., Washington, DC 20210.

Telephone: (202) 693-3737 (VOICE) (this is not a toll-free number) or 1-800-877-8339 (TTY) or speech-to-speech at 1-877-877-8982 (these are toll-free numbers).

Signed in Washington, DC, this 17th day of September, 2004.
Thomas M. Dowd,
Deputy Assistant Secretary, Employment and Training Administration.

[FR Doc. E4-2342 Filed 9-22-04; 8:45 am]

BILLING CODE 4510-30-P